NATIONAL ARCHIVES AND RECORDS ADMINISTRATION

[NARA-2018-053]

Advisory Committee on the Presidential Library-Foundation Partnerships

AGENCY: National Archives and Records Administration.

ACTION: Notice of charter renewal.

SUMMARY: The National Archives and Records Administration (NARA) is renewing the charter for the Advisory Committee on the Presidential Library-Foundation Partnerships. The General Services Administration approved this committee in NARA's ceiling of Federal advisory committees.

DATES: The committee's charter is renewed for two years.

ADDRESSES: National Archives Building at 700 Pennsylvania Avenue NW, Washington, DC.

FOR FURTHER INFORMATION CONTACT: Miranda Andreacchio by telephone at 202-357-5496.

SUPPLEMENTARY INFORMATION: In accordance with section 9(a)(2) of the Federal Advisory Committee Act (Pub. L. 92-463, 5 U.S.C., App.), NARA has determined that renewing the charter for the Advisory Committee on the Presidential Library-Foundation Partnerships is in the public interest, due to the unique perspective and valuable advice Committee members provide on establishing and administering Presidential Libraries.

NARA's Committee Management Officer (CMO) is Miranda Andreacchio.

Miranda J. Andreacchio,
Committee Management Officer.

[FR Doc. 2018-20000 Filed 9-13-18; 8:45 am]

BILLING CODE 7515-01-P